DEPARTMENT OF ENERGY

Federal Energy Regulatory Commission

[Docket No. RP01-243-002]

Pine Needle LNG Company, LLC; Notice of Compliance Filing

February 13, 2003.

Take notice that on February 7, 2003, Pine Needle LNG Company, LLC (Pine Needle), tendered for filing as part of its FERC Gas Tariff, Original Volume No. 1, 2nd Sub Second Revised Sheet No. 89 and Substitute Original Sheet No. 89A, with an effective date of January 1, 2003.

Pine Needle states that the instant filing is submitted in compliance with the Commission's letter order issued January 24, 2003 (January 24 Order) in the referenced docket. The January 24 Order directed Pine Needle to refile, within 15 days of the order, tariff sheets to implement NAESB Standards 2.3.32, 4.3.23 and 4.3.54 to the extent these standards pertain to matters other than netting and trading and imbalances.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 19, 2003.

Magalie R. Salas,
Secretary.

[FR Doc. 03-4123 Filed 2-19-03; 8:45 am]

BILLING CODE 6717-01-P